DEPARTMENT OF HEALTH AND HUMAN SERVICES

Office of Refugee Resettlement

Supplemental Awards to Seven Unaccompanied Alien Shelter Care Providers

AGENCY: Office of Refugee Resettlement, ACF, HHS.

ACTION: The Office of Refugee Resettlement announces the award of single-source expansion supplement grants to seven Unaccompanied Alien Shelter Care Providers.

CFDA Number: 93.676.

Statutory Authority: Awards announced in this notice are authorized by Section 462 of the Homeland Security Act, Public Law 6 U.S.C. 279(b)(A)-(J) and Section 235(a)(5)(C); 235(d); of the Trafficking Victims Protection Reauthorization Act of 2008, (8 U.S.C. 1232).

Project Period: October 1, 2010—September 30, 2011.

Summary: The Administration for Children and Families (ACF), Office of Refugee Resettlement (ORR) announces the award of single-source expansion supplement grants to seven unaccompanied alien shelter care providers for a total of $5,016,218. The additional funding provided by the awards will support services to refugees through September 30, 2011.

These grants will support the expansion of bed capacity to meet the number of unaccompanied alien children referrals from the Department of Homeland Security (DHS). The funding program is mandated by Section 462 of the Homeland Security Act to ensure appropriate placement of all referrals from the DHS. ORR's ability to meet this mandate is often a challenge since the program is completely tied to DHS apprehension strategies and the sporadic number of border crossers.

The program has specific requirements for the provision of services. Existing grantees are the only entities with the infrastructure, licensing, experience and appropriate level of trained staff to meet the service requirements and the urgent need for expansion. The program's ability to avoid a backlog of children waiting in border patrol stations for placement can only be accommodated through the expansion of existing programs through this supplemental award process.

The single-source expansion supplement recipients are:

Grantee | Location | Award amount
Heartland Alliance | Chicago, IL | $232,380
Southwest Key | TX and CA | 2,123,131
Morrison Child and Family Services | Portland, OR | 487,986
Catholic Charities Houston | Houston, TX | 473,405
Catholic Charities Miami-Boystown | Miami, FL | 320,940
International Education Services-Harlingen | Harlingen, TX | 206,616
His House | Miami, FL | 1,171,760

FOR FURTHER INFORMATION CONTACT: Kenneth Tota, Deputy Director, Office of Refugee Resettlement, Administration for Children and Families, 370 L'Enfant Promenade, SW., Washington, DC 20447, Telephone (202) 401-4858.

Dated: August 11, 2011.
Eskinder Negash,
Director, Office of Refugee Resettlement.

[FR Doc. 2011-21032 Filed 8-17-11; 8:45 am]

BILLING CODE 4120-27-P